DEPARTMENT OF LABOR

Pension and Welfare Benefits Administration

[Exemption Application No. D-10654]

Withdrawal of Notice of Proposed Exemption Involving Fish Lake Beach, Inc. Profit Sharing Plan (the Plan); Located in Round Lake, Illinois

In the Federal Register dated February 29, 2000 (65 FR 10826), the Department of Labor (the Department) published a notice of proposed exemption from the prohibited transaction restrictions of the Employee Retirement Income Security Act of 1974 and from certain taxes imposed by the Internal Revenue Code of 1986. The notice of proposed exemption concerned the prospective cash sale of a certain parcel of real property by the Plan to the trust of Emilie Keil, a party in interest with respect to the Plan.

On April 7, 2000, the applicant informed the Department that it wished to withdraw the notice of proposed exemption.

Accordingly, the notice of proposed exemption is hereby withdrawn.

Signed at Washington, DC, this 25th day of May, 2000.
Ivan L. Strasfeld,
Director of Exemption Determinations, Pension and Welfare Benefits Administration, Department of Labor.

[FR Doc. 00-13642 Filed 5-31-00; 8:45 am]

BILLING CODE 4510-29-P